NEIGHBORHOOD REINVESTMENT CORPORATION

Notice of Government in the Sunshine Regular Board of Directors Meeting

TIME AND DATE: 3:30 p.m., Monday, December 2, 2013.

PLACE: NeighborWorks America—Gramlich Boardroom, 999 North Capitol Street NE., Washington DC 20002.

STATUS: Open.

CONTACT PERSON: Jeffrey Bryson, General Counsel/Secretary, (202) 760-4101; jbryson@nw.org.

AGENDA:

I. CALL TO ORDER

II. Approval of Minutes

III. Management Internal Operations Review

IV. Non-Network Grant Policy

V. MHA Extension

VI. Update on Budget Outlook & Financial Report

VII. Financial Capability

VIII. NeighborhoodLIFT & CityLift

IX. UrbanLIFT

X. FY '13 Milestone Report & Dashboard

XI. MHA, NFMC & EHLP

XII. CEO Update to Board

XIII. Adjournment

Jeffrey T. Bryson,
General Counsel/Secretary.

[FR Doc. 2013-28325 Filed 11-21-13; 4:15 pm]

BILLING CODE 7570-02-P